DEPARTMENT OF ENERGY

[FE Docket Nos. 04-21-NG, et al.]

Office of Fossil Energy; Kimball Energy Corporation, et al.; Orders Granting, Transferring, and Vacating Authority To Import and Export Natural Gas, Including Liquefied Natural Gas

AGENCY: Office of Fossil Energy, DOE.

ACTION: Notice of Orders.

SUMMARY: The Office of Fossil Energy (FE) of the Department of Energy gives notice that during March 2004, it issued Orders granting, transferring, and vacating authority to import and export natural gas, including liquefied natural gas. These Orders are summarized in the attached appendix and may be found on the FE Web site at http://www.fe.doe.gov (select gas regulation). They are also available for inspection and copying in the Office of Natural Gas & Petroleum Import & Export Activities, Docket Room 3E-033, Forrestal Building, 1000 Independence Avenue, SW., Washington, DC 20585, (202) 586-9478. The Docket Room is open between the hours of 8 a.m. and 4:30 p.m., Monday through Friday, except Federal holidays.

Issued in Washington, DC, on April 9, 2004.
Yvonne Caudillo,
Manager, Natural Gas Regulation, Office of Natural Gas & Petroleum Import & Export Activities, Office of Fossil Energy.

Appendix—Orders Granting, Transferring, and Vacating Import/Export Authorizations
Order No. | Date issued | Importer/Exporter FE docket No. | Import volume | Export volume | Comments
1952 | 3-4-04 | Kimball Energy Corporation—04-21-NG | 75 Bcf |  | Import natural gas from Canada, beginning on April 1, 2004, and extending through March 31, 2006.
1953 | 3-9-04 | Citadel Energy Products LLC—04-20-NG | 20 Bcf |  | Import and export a combined total of natural gas, including LNG from and to Canada and Mexico, beginning March 9, 2004, and extending through March 8, 2006.
1954 | 3-9-04 | EXCO Energy Inc.—04-07-NG | 50 Bcf |  | Import and export a combined total of natural gas from and to Canada, beginning on March 9, 2004, and extending through March 8, 2006.
1174-B | 3-10-04 | Producers Marketing Corporation—96-34-NG |  |  | Order vacating blanket import authority.
259-B | 3-10-04 | Producers Marketing Corporation—88-27-NG |  |  | Order vacating blanket import authority.
1925-A | 3-19-04 | PERC Canada, Inc. (Successor to Peoples Energy Wholesale Marketing, LLC)—03-80-NG |  |  | Order transferring blanket import and export authority.
1897-A | 3-19-04 | NUI Energy Brokers, Inc.—03-53-NG |  |  | Order vacating blanket import and export authority.
1955 | 3-19-04 | Central Lomas de Real, S.A. C.V.—04-31-NG | 60 Bcf |  | Import and export a combined total of natural gas from and to Mexico, beginning on April 1, 2004, and extending through March 31, 2006.
1956 | 3-23-04 | Seminole Canada Gas Company—04-34-NG | 150 Bcf | 150 Bcf | Import and export natural gas from and to Canada, beginning on March 23, 2004, and extending through March 22, 2006.
1957 | 3-30-04 | Gasoducto Rosarito, S. De R.L. de C.V. |  | 155 Bcf | Export natural gas to Mexico, beginning April 1, 2004, and extending through March 31, 2006.
1963 | 3-31-04 | Duke Energy Marketing Canada Corp.—04-36-NG | 900 Bcf |  | Import and export natural gas, including LNG from and to Canada, and import LNG from other countries for a combined total beginning on April 1, 2004, and extending through March 31, 2006.
1964 | 3-31-04 | Energy Source Canada Inc.—04-37-NG | 1 Bcf |  | Import and export a combined total of natural gas from and to Canada, beginning on March 31, 2004, and extending through March 30, 2006.
1965 | 3-31-04 | LD Energy Canada LP—04-38-NG | 100 Bcf |  | Import and export a combined total of natural gas from and to Canada, beginning on May 1, 2004, and extending through April 30, 2006.

[FR Doc. 04-9048 Filed 4-20-04; 8:45 am]

BILLING CODE 6450-01-P